DEPARTMENT OF ENERGY

Federal Energy Regulatory Commission

[Project No. 15249-000]

Notice of Preliminary Permit Application Accepted for Filing and Soliciting Comments, Motions To Intervene, and Competing Applications; Lewis Ridge Pumped Storage, LLC

On November 22, 2021, Lewis Ridge Pumped Storage, LLC., filed an application for a preliminary permit, pursuant to section 4(f) of the Federal Power Act (FPA), proposing to study the feasibility of a pumped storage hydropower project located in Bell County, Kentucky. The sole purpose of a preliminary permit, if issued, is to grant the permit holder priority to file a license application during the permit term. A preliminary permit does not authorize the permit holder to perform any land-disturbing activities or otherwise enter upon lands or waters owned by others without the owners' express permission.

The proposed Lewis Ridge Pumped Storage Hydroelectric Project would consist of the following: (1) A 5,700-foot-long, 77-foot-high zoned rockfill embankment ring dike; (2) an upper reservoir with a surface area of 30 acres and a storage capacity of 2,300 acre-feet; (3) a 4,987-foot-long, 20-foot-diameter power tunnel; (4) a 120-foot-high, 30-foot-diameter steel surge tower; (5) a 420-foot-long, 80-foot-wide powerhouse containing four 54-megawatt (MW) reversible pump-turbines with a total capacity of 216 MW; (6) a 1,700-foot-long, 3.5-foot-diameter pipeline from a concrete pump station on the Cumberland River for fill/refill water; (7) a 1,400-foot-long, 100-foot-high zoned rockfill dam with a 5,900-foot-long, 10-foot-high zoned rockfill embankment ring dike surrounding (8) a 23 acre lower reservoir with a storage capacity of 2,300 acre-feet; and (9) a 1.3-mile-long, 161 kilovolt overhead transmission line. The proposed project would have an estimated annual generation of 605,000 megawatt-hours.

Applicant Contact: Nate Sandvig, Lewis Ridge Pumped Storage, LLC., 220 NW 8th Ave., Portland, OR 97209; phone: (503) 309-2496, email: nathan@ryedevelopment.com.

FERC Contact: Michael Spencer; phone: (202) 502-6093, or by email at michael.spencer@ferc.gov.

Deadline for filing comments, motions to intervene, competing applications (without notices of intent), or notices of intent to file competing applications: 60 days from the issuance of this notice. Competing applications and notices of intent must meet the requirements of 18 CFR 4.36.

The Commission strongly encourages electronic filing. Please file comments, motions to intervene, notices of intent, and competing applications using the Commission's eFiling system at https://ferconline.ferc.gov/FERCOnline.aspx. Commenters can submit brief comments up to 6,000 characters, without prior registration, using the eComment system at https://ferconline.ferc.gov/QuickComment.aspx. You must include your name and contact information at the end of your comments. For assistance, please contact FERC Online Support at FERCOnlineSupport@ferc.gov, (866) 208-3676 (toll free), or (202) 502-8659 (TTY). In lieu of electronic filing, you may submit a paper copy. Submissions sent via the U.S. Postal Service must be addressed to: Kimberly D. Bose, Secretary, Federal Energy Regulatory Commission, 888 First Street NE, Room 1A, Washington, DC 20426. Submissions sent via any other carrier must be addressed to: Kimberly D. Bose, Secretary, Federal Energy Regulatory Commission, 12225 Wilkins Avenue, Rockville, Maryland 20852.

More information about this project, including a copy of the application, can be viewed or printed on the “eLibrary” link of the Commission's website at https://elibrary.ferc.gov/eLibrary/search. Enter the docket number (P-15249) in the docket number field to access the document. For assistance, contact FERC Online Support.

Dated: December 16, 2021.
Kimberly D. Bose,
Secretary.

[FR Doc. 2021-27780 Filed 12-22-21; 8:45 am]

BILLING CODE 6717-01-P